DEPARTMENT OF HOMELAND SECURITY

Coast Guard

33 CFR Part 165

[Docket No. USCG-2010-0530]

Safety Zones; Annual Fireworks Events in the Captain of the Port Detroit Zone

AGENCY: Coast Guard, DHS.

ACTION: Notice of enforcement of regulation.

SUMMARY: The Coast Guard will enforce the safety zones for annual fireworks events in the Captain of the Port Detroit zone from 9 p.m. on June 23, 2010 through 11 p.m. on September 6, 2010. This action is necessary and intended to ensure safety of life on the navigable waters immediately prior to, during, and immediately after fireworks events. Enforcement of the safety zones will establish restrictions upon, and control movement of, vessels in a specified area immediately prior to, during, and immediately after fireworks events. During the enforcement periods, no person or vessel may enter the safety zone without permission of the Captain of the Port.

DATES: The regulations will be enforced at various times from 9 p.m. on June 23, 2010 through 11 p.m. on September 6, 2010.

FOR FURTHER INFORMATION CONTACT: If you have questions on this notice, call or e-mail Commander Joseph Snowden, Prevention, U.S. Coast Guard Sector Detroit, 110 Mount Elliot Ave., Detroit, MI 48207; telephone 313-568-9508, e-mail Joseph.H.Snowden@uscg.mil.

SUPPLEMENTARY INFORMATION: The Coast Guard will enforce the following safety zones, listed in nineteen separate sections of 33 CFR 165.941, which were published in the August 8, 2008 issue of the Federal Register (73 FR 46197):

§ 165.941(a)(30) Bay-Rama Fishfly Festival Fireworks, New Baltimore, MI.

This regulation will be enforced from 9 p.m. to 11 p.m. on June 23, 2010; and from 9 p.m. to 11 p.m. on June 24, 2010. In the case of inclement weather on June 23 or 24, 2010, this regulation will also be enforced from 9 p.m. to 11 p.m. on June 25, 26, or 27, 2010, weather permitting.

§ 165.941(a)(35) City of Wyandotte Fireworks, Wyandotte, MI.

This regulation will be enforced from 9:15 p.m. to 10:30 p.m. on June 25, 2010.

§ 165.941(a)(40) St. Clair Shores Fireworks, St. Clair Shores, MI.

This regulation will be enforced from 10 p.m. to 11 p.m. on June 25, 2010. In the case of inclement weather on June 25, 2010, this regulation will also be enforced from 10 p.m. to 11 p.m. on June 26, 2010.

§ 165.941(a)(8) Harrisville Fireworks, Harrisville, MI.

This regulation will be enforced from 9:30 p.m. to 11 p.m. on July 3, 2010. In the case of inclement weather on July 3, 2010, this regulation will also be enforced from 9:30 p.m. to 11 p.m. on July 4, 2010.

§ 165.941(a)(37) Caseville Fireworks, Caseville, MI.

This regulation will be enforced from 9:30 p.m. to 11 p.m. on July 3, 2010. In the case of inclement weather on July 3, 2010, this regulation will also be enforced from 9:30 p.m. to 11 p.m. on July 5, 2010.

§ 165.941(a)(43) Lexington Independence Festival Fireworks, Lexington, MI.

This regulation will be enforced from 9:30 p.m. to 11 p.m. on July 3, 2010. In the case of inclement weather on July 3, 2010, this regulation will also be enforced from 9:30 p.m. to 11 p.m. on July 4, 2010.

§ 165.941(a)(38) Algonac Pickerel Tournament Fireworks, Algonac, MI.

This regulation will be enforced from 9:30 p.m. to 11 p.m. on July 3, 2010. In the case of inclement weather on July 3, 2010, this regulation will also be enforced from 9:30 p.m. to 11 p.m. on July 4, 2010.

§ 165.941(a)(36) Grosse Point Farms Fireworks, Grosse Point Farms, MI.

This regulation will be enforced from 9:30 p.m. to 11 p.m. on July 3, 2010. In the case of inclement weather on July 3, 2010, this regulation will also be enforced from 9:30 p.m. to 11 p.m. on July 4, 2010.

§ 165.941(a)(45) Grosse Isle Yacht Club Fireworks, Grosse Isle, MI.

This regulation will be enforced from 9 p.m. to 11 p.m. on July 3, 2010. In the case of inclement weather on July 3, 2010, this regulation will also be enforced from 9 p.m. to 11 p.m. on July 4, 2010.

§ 165.941(a)(48) Tawas City 4th of July Fireworks, Tawas, MI.

This regulation will be enforced from 9:30 p.m. until 11 p.m. on July 4, 2010.

§ 165.941(a)(3) Au Gres City Fireworks, Au Gres, MI.

This regulation will be enforced from 9:30 p.m. until 11 p.m. on July 4, 2010.

§ 165.941(a)(47) Bell Maer Harbor 4th of July Fireworks, Harrison Township, MI.

This regulation will be enforced from 9:30 p.m. to 11 p.m. on July 4, 2010. In the case of inclement weather on July 4, 2010, this regulation will also be enforced from 9:30 p.m. to 11 p.m. on July 5, 2010.

§ 165.941(a)(32) City of St. Clair Fireworks, St. Clair, MI.

This regulation will be enforced from 9:30 p.m. to 11 p.m. on July 4, 2010. In the case of inclement weather on July 4, 2010, this regulation will also be enforced from 9:30 p.m. to 11 p.m. on July 5, 2010.

§ 165.941(a)(34) Port Austin Fireworks, Port Austin, MI.

This regulation will be enforced from 9:30 p.m. to 11 p.m. on July 4, 2010. In the case of inclement weather on July 4, 2010, this regulation will also be enforced from 9:30 p.m. to 11 p.m. on July 5, 2010.

§ 165.941(a)(46) Trenton Fireworks, Trenton, MI.

This regulation will be enforced from 10 p.m. to 11 p.m. on July 4, 2010. In the case of inclement weather on July 4, 2010, this regulation will also be enforced from 10 p.m. to 11 p.m. on July 5, 2010.

§ 165.941(a)(7) Gatzeros Fireworks, Grosse Point Park, MI.

This regulation will be enforced from 9:30 p.m. to 11 p.m. on July 4, 2010. In the case of inclement weather on July 4, 2010, this regulation will also be enforced from 9:30 p.m. to 11 p.m. on July 5, 2010.

§ 165.941(a)(42) Grosse Point Yacht Club 4th of July Fireworks, Grosse Point Shores, MI.

This regulation will be enforced from 9:30 p.m. to 11 p.m. on July 4, 2010. In the case of inclement weather on July 4, 2010, this regulation will also be enforced from 9:30 p.m. to 11 p.m. on July 5, 2010.

§ 165.941(a)(10) Trenton Rotary Roar on the River Fireworks, Trenton, MI.

This regulation will be enforced from 9:30 p.m. until 11 p.m. on July 24, 2010.

§ 165.941(a)(13) Detroit International Jazz Festival Fireworks, Detroit, MI.

This regulation will be enforced from 9:30 p.m. to 11 p.m. on September 4, 2010. In the case of inclement weather on September 4, 2010, this regulation will also be enforced from 9:30 p.m. to 11 p.m. on September 5, 2010 or September 6, 2010.

Under the provisions of 33 CFR 165.23, entry into, transiting, or anchoring within these safety zones is prohibited unless authorized by the Captain of the Port Detroit or his designated representative. Vessels that wish to transit through the safety zones may request permission from the Captain of the Port Detroit. Requests must be made in advance and approved by the Captain of Port before transits will be authorized. Approvals will be granted on a case by case basis. The Captain of the Port may be contacted via U.S. Coast Guard Sector Detroit on channel 16, VHF-FM. The Coast Guard will give notice to the public via a Broadcast to Mariners that the regulation is in effect. This notice is issued under authority of 33 CFR 165.23 and 5 U.S.C. 552 (a). If the District Commander, Captain of the Port, or other official authorized to do so, determines that the regulated area need not be enforced for the full duration stated in this notice, he or she may use a Broadcast Notice to Mariners to grant general permission to enter the safety zone.

Dated: June 11, 2010.
J.E. Ogden,
Captain, U.S. Coast Guard, Captain of the Port Detroit.

[FR Doc. 2010-15145 Filed 6-22-10; 8:45 am]

BILLING CODE 9110-04-P